DEPARTMENT OF ENERGY

Federal Energy Regulatory Commission

[Project No. 15384-000]

NOW NE005 LLC; Notice of Preliminary Permit Application Accepted for Filing and Soliciting Comments, Motions To Intervene, and Competing Applications

On November 27, 2024, NOW NE005 LLC, filed an application for a preliminary permit, pursuant to section 4(f) of the Federal Power Act (FPA), proposing to study the feasibility of the Champlain Canal-Hudson River-Lock and Dam C1 Hydroelectric Project (Lock and Dam C1 Project) on the Champlain Canal, Hudson River in Saratoga and Rensselaer Counties, New York. The sole purpose of a preliminary permit, if issued, is to grant the permit holder priority to file a license application during the permit term. A preliminary permit does not authorize the permit holder to perform any land-disturbing activities or otherwise enter upon lands or waters owned by others without the owners' express permission.

The proposed Lock and Dam C1 Project would consist of the following: (1) an existing 1,025-foot-long and 15-foot-high ogee-shaped concrete gravity dam, with a 356-foot-long tainter-gated section; (2) an existing impoundment having a surface area of 400 acres and a storage capacity of 5,000 acre-feet at a water surface elevation of 28.3 feet National Geodetic Vertical Datum of 1929; (3) an existing 45-foot-wide by 338-foot-long lock; (4) a new 97-foot-wide and 170-foot-long reinforced concrete powerhouse with two new identical turbine-generator units with an installed capacity of 5,100 kilowatts each; (5) a new substation, 75 feet by 60 feet; (6) a new 34.5-kilovolt, approximately 1.9-mile-long transmission line; and (7) appurtenant facilities. The proposed project would have an annual generation of 39.79 gigawatt-hours.

Applicant Contact: Alan Skelly, NOW NE005 LLC, 32 Griffith Way, Suite 201, Wappingers, NY 12590; phone: (937) 802-8866.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

More information about this project, including a copy of the application, can be viewed or printed on the “eLibrary” link of the Commission's website at https://elibrary.ferc.gov/eLibrary/search. Enter the docket number (P-15384) in the docket number field to access the document. For assistance, contact FERC Online Support.

Dated: February 6, 2025.
Debbie-Anne A. Reese,
Secretary.

[FR Doc. 2025-02516 Filed 2-11-25; 8:45 am]

BILLING CODE 6717-01-P